DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance
[7/1/2008 through 7/31/2008]
Firm | Address | Date accepted for filing | Products
Springs Window Fashions, LLC | 8601 State Route 405, Montgomery, PA 17752 | 7/15/2008 | Horizontal mini blinds.
Eyelet Crafters Inc | 2712 South Main Street, Waterbury, CT 06723 | 7/15/2008 | Bottle closures, caps, jar covers, valve domes, collars, caps, barrels and refill tubes.
Specialty Screw Corporation | 2801 Huffman Blvd., Rockford, IL 61103-3906 | 7/11/2008 | Metal cold headed products, such as screws, bolts, and fasteners.
Octagon Systems Corporation | 7403 Church Ranch Blvd, Westminister, CO 80021 | 7/8/2008 | Printed circuit boards and computers specially designed for use in harsh environments.
H&H Meat Products, Inc | P.O. Box 358, Mercedes, TX 78570 | 7/9/2008 | Processes beef for the retail beef industry.
Mohawk Finishing Products | 22 South Center Street, Hickory, NC 28602 | 7/24/2008 | Touch-up and repair products that are used in the furniture and cabinet industries.
J.F. Dubberly | 214 Vernonburg Avenue, Savannah, GA 31419 | 7/1/2008 | Grades shrimp, processes, packs and ships to wholesale and retail markets.
B. Walter & Company, Inc | 655 Factory St., Wabash, IN 46992-3213 | 7/16/2008 | Wood parts and metal hardware for the furniture industry.
Inola Casting Works, Inc | P.O.B. 969, Inola, OK 74036 | 7/10/2008 | Lapel jewelry and assorted base metal novelties.
Necedah Screw Machine Products, Inc | 1301 Precision Parkway, Necedah, WI 54646 | 7/18/2008 | Designs, manufactures, finishes and assembles precision turned metal screws, parts and assemblies out of brass, steel and aluminum.
Vantage Technology, Inc | 1000 West 8th Street, Vancouver, WA 98660 | 7/1/2008 | MSM, (methylsulfonylmethane), trademarked Opti MSM, tablets and powder for human nutrition, cosmetic formulas, equine nutrition and industrial applications.
Safety Speed Cut Mfg. Co. Inc | 13943 Lincoln Street NE., Ham Lake, MN 55304-4611 | 7/16/2008 | Woodworking equipment such as vertical panel saws and other machines.
Keeters Meat Company, LLC | P.O. Box 41, Tulia, TX 79088 | 7/21/2008 | Sausage of beef and pork.
Manufactured Assemblies Corporation | 7484 Webster St, Dayton, OH 45414 | 7/23/2008 | Custom cable assemblies, wire harnesses, and electrical/mechanical assemblies.
Empirical Systems Aerospace, LLC | P.O. Box 595, Pismo Beach, CA 93448 | 7/11/2008 | Design, analysis, manufacturing and testing for new concept products.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: August 4, 2008.
William P. Kittredge,
Program Officer for TAA.

[FR Doc. E8-18295 Filed 8-7-08; 8:45 am]

BILLING CODE 3510-24-P